DEPARTMENT OF DEFENSE

Department of the Army; Corps of Engineers

Intent To Prepare a Draft Environmental Impact Statement for the Coldwater River Basin Below Arkabutla Lake, MS, Project

AGENCY: U.S. Army Corps of Engineers, DoD.

ACTION: Notice of intent.

SUMMARY: The study area is located in the Coldwater River Watershed in northwest Mississippi, approximately 10 miles southwest of Memphis, TN. The northwest part of this watershed below Arkabutla Lake is the object of the Environmental Impact Statement (EIS) and lies primarily in Tunica County and includes portions of De Soto, Coahoma, Quitman, and Tate Counties. Primary streams represented in the study area include Coldwater River, McKinney Bayou, Lake Cormorant Bayou, White Oak Bayou, Muddy Bayou, Phillips Bayou, and David Bayou. The primary focus of the EIS is to evaluate features designed to alleviate water resource problems in the study area. The local cost-sharing project sponsors are the Tunica County Soil and Water Conservation District and the Yazoo-Mississippi Delta Joint Water Management District.

DATES: A public scoping meeting will be held on September 23, 2003, at 7 p.m. in the Economic Development Building, 3092 U.S. Highway 61 South, Tunica, MS.

FOR FURTHER INFORMATION CONTACT: Questions about the proposed action and Draft EIS should be directed to Ms. Karen Dove-Jackson (telephone (601) 631-7136), U.S. Army Corps of Engineers, Vicksburg District, ATTN: CEMVK-PP-PQ, 4155 Clay Street, Vicksburg, MS 39180-3435.

SUPPLEMENTARY INFORMATION: This project is authorized by Senate Resolution adopted June 29, 1973, by the Committee on Public Works of the U.S. Senate. The resolution reads as follows:

“Resolved by the Committee on Public Works of the United States Senate, That the Chief of Engineers, U.S. Army, is hereby requested to review the report on the Mississippi River and Tributaries Project contained in House Document No. 308, 88th Congress, 2d Session, and other reports with a view to determining whether any modifications of the recommendations contained therein are advisable at the present time with reference to providing a plan for the development, utilization and conservation of water related land resources of the Yazoo Basin, including the backwater areas of the Mississippi and Yazoo Rivers. Such study should include appropriate considerations of the needs for flood protection, wise use of flood plain lands, bank stabilization, navigation facilities, regional water supply and waste water management facilities systems, general recreation facilities, enhancement and control of water quality, enhancement and conservation of fish and wildlife and other measures for the protection and enhancement of the environment.”

1. A Section 905(b) reconnaissance analysis was conducted for the Coldwater River Basin Below Arkabutla Lake, Mississippi, project, and it was determined that the planning process should proceed into the more detailed feasibility phase based on a preliminary appraisal of Federal interest, estimated costs, potential benefits, and possible environmental impacts of various alternatives. The Feasibility Cost-Sharing Agreement was signed by the Vicksburg District and project sponsors on June 18, 2003. The District Engineer has decided to prepare a Draft EIS to fully address/evaluate problems and potential solutions and/or opportunities within the Coldwater River Basin Below Arkabutla Lake, Mississippi, project area.

2. The proposed action involves the development of an integrated and comprehensive plan for addressing multiple project objectives, including water quality, local drainage, low stream base flows, and flood damage reduction from expected increases in development in the study area.

3. A public scoping meeting will be held in Tunica, Mississippi, in the Economic Development Building, on September 23, 2003 (See DATES). Significant issues identified during this scoping process will be analyzed in depth in the Draft EIS. The U.S. Coast Guard; Natural Resources Conservation Service; U.S. Forest Service; Environmental Protection Agency; U.S. Fish and Wildlife Service; Mississippi Department of Environmental Quality; and Mississippi Department of Wildlife, Fisheries and Parks will be invited to become cooperating agencies. Federally recognized Indian tribes will also be invited to become cooperators. These agencies and tribes will be asked to participate in the review of data and the feasibility report and appendixes.

4. Upon completion, the Draft EIS will be distributed for agency and public review and comment. Additionally, a public meeting will be held to present results of the Draft EIS evaluations and the recommended plan.

5. The Draft EIS is estimated to be completed in May 2007.

Dated: August 15, 2003.
Frederick L. Clapp, Jr.,
Colonel, Corps of Engineers, District Engineer.

[FR Doc. 03-22023 Filed 8-27-03; 8:45 am]

BILLING CODE 3710-PU-M